DEPARTMENT OF TRANSPORTATION

Federal Aviation Administration

Planned Modification of the Cincinnati Class B Airspace Area, OH

AGENCY: Federal Aviation Administration (FAA), DOT.

ACTION: Notice of public meetings.

SUMMARY: This notice announces two fact-finding informal airspace meetings. The purpose of these meetings is to provide interested parties an opportunity to present views, recommendations, and comments on the plan to modify the Cincinnati Class B Airspace Area. All comments received during these meetings will be considered prior to any revision or issuance of a notice of proposed rulemaking.

TIMES AND DATES: Meetings. These informal airspace meetings will be held on Wednesday, August 16, 2000, at 7:00 pm-9:00 pm; and Thursday, August 17, 2000, at 7:00 pm-9:00 pm. Comments must be received on or before September 18, 2000.

ADDRESSES: On August 16 and August 17, 2000, the meetings will be held at the Dennert's Community Meeting Room, Lunken Airport, 351 Wilmer Avenue, Cincinnati, OH.

COMMENTS: Send comments on the planned modification in triplicate to: Manager, Air Traffic Division, ASO-500, Federal Aviation Administration, P.O. Box 20636, Atlanta, GA 30320.

FOR FURTHER INFORMATION CONTACT: Michael Wheeler, FAA, Manager, Cincinnati Airport Traffic Control Tower, Cincinnati/Northern Kentucky International Airport, P.O. Box 75003, Cincinnati, OH 45275, telephone (859) 372-6400.

SUPPLEMENTARY INFORMATION:

Meeting Procedures

(a) These meetings will be informal in nature and will be conducted by a representative of the FAA Southern Region. A representative from the FAA will present a formal briefing on the planned changes to the Class B airspace area. Each participant will be given an opportunity to deliver comments or make a presentation at the meetings.

(b) These meetings will be open to all persons on a space-available basis. There will be no admission fee or other charge to attend and participate.

(c) Any person wishing to make a presentation to the FAA panel will be asked to sign in and estimate the amount of time needed for such presentation. This will permit the panel to allocate an appropriate amount of time for each presenter.

(d) These meetings will not be adjourned until everyone on the list has had an opportunity to address the panel.

(e) Position papers or other handout material relating to the substance of these meetings will be accepted. Participants wishing to submit handout material should present three copies to the presiding officer. There should be additional copies of each handout available for other attendees.

(f) These meetings will not be formally recorded.

Agenda for the Meetings

Presentation of Meeting Procedures.

Presentation of the planned Class B Airspace Area Modification.

Public Presentations and Discussions.

Closing Comments.

Issued in Washington, DC, on June 22, 2000.
Reginald C. Matthews,
Manager, Airspace and Rules Division.

[FR Doc. 00-16328 Filed 6-27-00; 8:45 am]

BILLING CODE 4910-13-P